NUCLEAR REGULATORY COMMISSION

[Docket Number 40-8989]

Issuance of Directors Decision Under 10 CFR 2.206

Notice is hereby given that by petitions dated February 24, 2000, and March 13, 2000, the Snake River Alliance and Envirocare of Utah respectively, requested that the NRC assume responsibility for Formerly Utilized Sites Remedial Action Program (FUSRAP) radioactively contaminated material and ensure its proper disposal in an NRC licensed facility. As the basis for these requests, the petitioners stated that the NRC, under sections 81 and 84 of the Atomic Energy Act (AEA), was given authority by Congress to regulate all 11e.(2) material regardless of when it was generated. The request was referred to the Director of the Office of Nuclear Material Safety and Safeguards.

The Director, Office of Nuclear Material Safety and Safeguards, has determined that the requests should be denied for the reasons stated in the “Director's Decision Under 10 CFR 2.206” (DD-00-06), the complete text of which is available for public inspection in the Commission's Public Document Room, located at One White Fint North, 11555 Rockville Pike (first floor), Rockville, Maryland, and via the NRC Web site (http://www.nrc.gov) on the World Wide Web, under the “Public Involvement” icon. The NRC will continue to refrain from imposing disposal requirements for the mill tailings generated at FUSRAP sites, because the material is outside of the agency's jurisdiction.

A copy of this Decision has been filed with the Secretary of the Commission for the Commission's review in accordance with 10 CFR 2.206(c) of the Commission's regulations. As provided by that regulation, this Decision will constitute the final action of the Commission 25 days after the date of issuance unless the Commission, on its own motion, institutes review of the Decision within that time.

Dated at Rockville, Maryland, this 13th day of December, 2000.
For the Nuclear Regulatory Commission.
William F. Kane,
Director, Office of Nuclear Material Safety and Safeguards.

[FR Doc. 00-32427 Filed 12-19-00; 8:45 am]

BILLING CODE 7590-01-P